DEPARTMENT OF LABOR

Employment and Training Administration

[TA-W-51,696]

Sanmina-SCI, Lewisburg, PA; Notice of Termination of Investigation

Pursuant to section 221 of the Trade Act of 1974, as amended, an investigation was initiated on May 7, 2003 in response to a worker petition filed by a company official on behalf of workers at Sanmina-SCI, Lewisburg, Pennsylvania.

The petitioner has requested that the petition be withdrawn. Consequently, the investigation has been terminated.

Signed in Washington, DC this 23rd day of May, 2003.
Linda G. Poole,
Certifying Officer, Division of Trade Adjustment Assistance.

[FR Doc. 03-15464 Filed 6-18-03; 8:45 am]

BILLING CODE 4510-30-P